DEPARTMENT OF ENERGY

Federal Energy Regulatory Commission

Combined Notice of Filings #1

Take notice that the Commission received the following exempt wholesale generator filings:

Docket Numbers: EG19-65-000.

Applicants: Sage Solar I LLC.

Description: Self-Certification of EWG Status of Sage Solar I LLC.

Filed Date: 3/11/19.

Accession Number: 20190311-5162.

Comments Due: 5 p.m. ET 4/1/19.

Docket Numbers: EG19-66-000.

Applicants: Sage Solar II LLC.

Description: Self-Certification of EWG Status of Sage Solar II LLC.

Filed Date: 3/11/19.

Accession Number: 20190311-5170.

Comments Due: 5 p.m. ET 4/1/19.

Docket Numbers: EG19-67-000.

Applicants: Sage Solar III LLC.

Description: Self-Certification of EWG Status of Sage Solar III LLC.

Filed Date: 3/11/19.

Accession Number: 20190311-5178.

Comments Due: 5 p.m. ET 4/1/19.

Take notice that the Commission received the following electric rate filings:

Docket Numbers: ER13-738-006; ER11-3097-010; ER10-1186-009 ; ER10-1329-009.

Applicants: DTE Electric Company, DTE Energy Trading, Inc., DTE Energy Supply, Inc., St. Paul Cogeneration, LLC.

Description: Supplement to February 13, 2019 Notice of Non-Material Change in Status of the DTE MBR Entities.

Filed Date: 3/8/19.

Accession Number: 20190308-5255.

Comments Due: 5 p.m. ET 3/29/19.

Docket Number: ER19-1229-000.

Applicants: Midcontinent Independent System Operator, Inc., GridLiance Heartland LLC.

Description: § 205(d) Rate Filing: 2019-03-08_Revisions to add GridLiance to Ameren-PPI JPZA & Schs 7,8,9 to be effective 9/1/2019.

Filed Date: 3/8/19.

Accession Number: 20190308-5204.

Comments Due: 5 p.m. ET 3/29/19.

Docket Numbers: ER19-1230-000.

Applicants: TRS Fuel Cell, LLC.

Description: Baseline eTariff Filing: Baseline New to be effective 5/8/2019.

Filed Date: 3/8/19.

Accession Number: 20190308-5216.

Comments Due: 5 p.m. ET 3/29/19.

Docket Numbers: ER19-1231-000.

Applicants: Midcontinent Independent System Operator, Inc., GridLiance Heartland LLC.

Description: § 205(d) Rate Filing: 2019-03-08_Revisions to Schedules 7, 8, and 9 to add GridLiance Heartland to be effective 9/1/2019.

Filed Date: 3/8/19.

Accession Number: 20190308-5222.

Comments Due: 5 p.m. ET 3/29/19.

Docket Numbers: ER19-1232-000.

Applicants: Rochester Gas and Electric Corporation.

Description: § 205(d) Rate Filing: Amendment to Borderline Service Agreement to be effective 2/9/2019.

Filed Date: 3/8/19.

Accession Number: 20190308-5241.

Comments Due: 5 p.m. ET 3/29/19.

Docket Numbers: ER19-1233-000.

Applicants: Midcontinent Independent System Operator, Inc.

Description: § 205(d) Rate Filing: 2019-03-11_SA 3261 MidAmerican—Bridges Wind Energy LLC GIA (J528) to be effective 2/25/2019.

Filed Date: 3/11/19.

Accession Number: 20190311-5040.

Comments Due: 5 p.m. ET 4/1/19.

Docket Numbers: ER19-1234-000.

Applicants: Alabama Power Company.

Description: § 205(d) Rate Filing: Wilsonville Solar LGIA Filing to be effective 2/27/2019.

Filed Date: 3/11/19.

Accession Number: 20190311-5043.

Comments Due: 5 p.m. ET 4/1/19.

Docket Numbers: ER19-1235-000.

Applicants: Alabama Power Company.

Description: § 205(d) Rate Filing: Iron City Solar LGIA Filing to be effective 2/27/2019.

Filed Date: 3/11/19.

Accession Number: 20190311-5051.

Comments Due: 5 p.m. ET 4/1/19.

Docket Numbers: ER19-1238-000.

Applicants: Midcontinent Independent System Operator, Inc.

Description: § 205(d) Rate Filing: 2019-03-11_SA 3260 MidAmerican—Holliday Creek Solar GIA (J524) to be effective 2/25/2019.

Filed Date: 3/11/19.

Accession Number: 20190311-5108.

Comments Due: 5 p.m. ET 4/1/19.

Docket Number: ER19-1239-000.

Applicants: PJM Interconnection, L.L.C.

Description: § 205(d) Rate Filing: First Revised ISA, SA No. 5098; Queue No. AB1-173/AB1-173A/AB2-031 to be effective 2/8/2019.

Filed Date: 3/11/19.

Accession Number: 20190311-5179.

Comments Due: 5 p.m. ET 4/1/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 11, 2019.
Nathaniel J. Davis, Sr.,
Deputy Secretary.

[FR Doc. 2019-04843 Filed 3-14-19; 8:45 am]

BILLING CODE 6717-01-P